DEPARTMENT OF ENERGY

Energy Efficiency and Renewable Energy

National Energy Rating Program for Homes

AGENCY: Energy Efficiency and Renewable Energy, Department of Energy.

ACTION: Request for Information (RFI).

SUMMARY: The Department of Energy (DOE) is seeking comments and information from interested parties to assist DOE in developing a voluntary National Energy Rating Program for Homes. The purpose of this program is to encourage consumers to invest in energy improvements in existing homes by providing reliable information to them at low cost. The Department is considering a wide range of issues including how to measure energy performance, what performance metrics to use, and how to present the information to consumers, among other questions. For a full discussion of these issues, please view www.buildings.energy.gov/home_rating_rfi.html.

DATES: Comments must be postmarked by no later than July 5, 2010. Comments must be received by no later than July 10, 2010.

ADDRESSES: You may submit comments, identified by “RFI: National Energy Rating Program for Homes,” by any of the following methods: Federal eRulemaking Portal: http://www.regulations.gov. Follow the instructions for submitting comments. E-mail: buildingratingRFI@EE.DOE.GOV. Include “RFI: National Energy Rating Program for Homes” in the subject line of the message. Mail: U.S. Department of Energy, Office of Energy Efficiency and Renewable Energy (EE-1), 1000 Independence Avenue, SW., Washington, DC 20585 Attn: National Energy Rating Program for Homes, Jessica Balsam.

FOR FURTHER INFORMATION CONTACT: Joan Glickman at buildingratingRFI@ee.doe.gov.

Issued in Washington, DC, on June 2, 2010.
Cathy Zoi,
Assistant Secretary, Energy Efficiency and Renewable Energy.

[FR Doc. 2010-13679 Filed 6-7-10; 8:45 am]

BILLING CODE 6450-01-P